DEPARTMENT OF THE INTERIOR

Bureau of Land Management

[LLWO630000.L18200000.XP0000]

New Dates for Close of Public Comment and Protest Periods Due to Federal Government Shutdown

AGENCY: Bureau of Land Management, Interior.

ACTION: Notice.

SUMMARY: The Bureau of Land Management (BLM) has established new dates for certain public comment and protest periods that were ongoing or that ended during the Federal Government shutdown resulting from a lapse in appropriations, which began on October 1, 2013, and ended on October 16, 2013.

DATES: The new dates can be found in the table under the SUPPLEMENTARY INFORMATION section.

FOR FURTHER INFORMATION CONTACT: Please refer to the contact information and commenting procedures listed in the original Federal Register notices. Web links to the original notices are provided in the following table.

SUPPLEMENTARY INFORMATION: Before the Federal Government shutdown, the BLM published notices in the Federal Register that informed the public they could obtain copies of various agency documents on BLM Web sites. The notices also contained closing dates for public comment periods and the submission of protests. Three of the dates originally were set to close during the government shutdown and seven others originally were set to close after the shutdown ended.

The public was unable to access certain documents on the BLM Web site during the government shutdown. Accordingly, the BLM announced new dates through the issuance of a press release for each of the comment periods and protest periods identified in this Federal Register notice. Comment periods and protest periods that were set to conclude during the shutdown have been adjusted by adding the number of days from the beginning of the shutdown to the original due date. These additional days were added to the date of the press release notifying the public of the new dates. Comment periods and protest periods that were originally set to close after the shutdown were adjusted by adding 16 days, the number of the days of the shutdown. In some cases, the BLM is extending comment periods for an additional period of time. Any additional extensions were reflected in the new dates provided in the individual press releases.

Federal Register notice title | Original date | New date | Web link
Notice of Availability of the Proposed Winnemucca District Resource Management Plan and Final Environmental Impact Statement, NV | 10/7/13 | 10/29/13 | http://www.gpo.gov/fdsys/pkg/FR-2013-09-06/pdf/2013-21766.pdf (published 9/6/13). http://www.gpo.gov/fdsys/pkg/FR-2013-09-06/pdf/2013-21793.pdf (EPA Federal Register notice (FRN) published 9/6/13).
Notice of Availability of the Draft Environmental Impact Statement for the 3 Bars Ecosystem and Landscape Restoration Project in Eureka County, NV | 11/12/13 | 11/29/13 | http://www.gpo.gov/fdsys/pkg/FR-2013-09-27/pdf/2013-23484.pdf (published 9/27/13). http://www.gpo.gov/fdsys/pkg/FR-2013-09-27/pdf/2013-23652.pdf (EPA FRN published 9/27/13).
Notice of Availability of the Draft Tri-County Resource Management Plan and Draft Environmental Impact Statement for the Las Cruces District Office, New Mexico | 10/12/13 | 11/4/13 | http://www.gpo.gov/fdsys/pkg/FR-2013-04-12/pdf/2013-08534.pdf (published 4/12/13). http://www.gpo.gov/fdsys/pkg/FR-2013-04-12/pdf/2013-08661.pdf (EPA FRN published 4/12/13).
Notice of Availability of the Final Supplemental Environmental Impact Statement and Proposed Resource Management Plan Amendment for the Silver State Solar South Project, Clark County, NV | 10/21/13 | 11/6/13 | http://www.gpo.gov/fdsys/pkg/FR-2013-09-20/pdf/2013-22877.pdf (published 9/20/13). http://www.gpo.gov/fdsys/pkg/FR-2013-09-20/pdf/2013-22963.pdf (EPA FRN published 9/20/13).
Notice of Availability of the Proposed Bureau of Land Management Tres Rios Field Office and San Juan National Forest Land and Resource Management Plan/Final Environmental Impact Statement | 10/21/13 | 11/6/13 | http://www.gpo.gov/fdsys/pkg/FR-2013-09-20/pdf/2013-22785.pdf (published 9/20/13). http://www.gpo.gov/fdsys/pkg/FR-2013-09-20/pdf/2013-22963.pdf (EPA FRN published 9/20/13).
Notice of Availability of the Draft Supplemental Environmental Impact Statement for the Palen Solar Electric Generating System and Draft California Desert Conservation Area Plan Amendment | 10/24/13 | 11/14/13 | http://www.gpo.gov/fdsys/pkg/FR-2013-07-31/pdf/2013-18386.pdf (published 7/31/13). http://www.gpo.gov/fdsys/pkg/FR-2013-07-26/pdf/2013-18059.pdf (EPA FRN published 7/26/13).
Notice of Availability of the Draft Environmental Impact Statement for the Jump Creek, Succor Creek, and Cow Creek Watersheds Grazing Permit Renewal, ID | 11/4/13 | 11/20/13 | http://www.gpo.gov/fdsys/pkg/FR-2013-05-03/pdf/2013-10250.pdf (published 5/3/13). http://www.gpo.gov/fdsys/pkg/FR-2013-05-03/pdf/2013-10537.pdf (EPA FRN published 5/3/13).
Notice of Availability of a Supplement to the Bighorn Basin Draft Resource Management Plan/Environmental Impact Statement, Cody and Worland Field Offices, WY | 10/12/13 | 11/1/13 | http://www.gpo.gov/fdsys/pkg/FR-2013-07-12/pdf/2013-16630.pdf (published 7/12/13). http://www.gpo.gov/fdsys/pkg/FR-2013-07-12/pdf/2013-16761.pdf (EPA FRN published 7/12/13).
Notice of Availability of the Draft Visual Resource Management and Areas of Critical Environmental Concern Amendment to the Resource Management Plan for the Rawlins Field Office and Associated Environmental Assessment, WY | 10/28/13 | 11/13/13 | http://www.gpo.gov/fdsys/pkg/FR-2013-08-30/pdf/2013-21118.pdf (published 8-30-13, no EPA publication).
Notice of Availability of the Northwest Colorado Greater Sage-Grouse Draft Resource Management Plan Amendment and Draft Environmental Impact Statement for the Northwest Colorado District | 11/14/13 | 12/2/13 | http://www.gpo.gov/fdsys/pkg/FR-2013-08-16/pdf/2013-19837.pdf (published 8/16/13). http://www.gpo.gov/fdsys/pkg/FR-2013-08-16/pdf/2013-20019.pdf (EPA FRN published 8/16/13).
Notice of Availability of the North Dakota Greater Sage-Grouse Draft Resource Management Plan Amendment and Draft Environmental Impact Statement | 12/26/13 | 1/13/14 | http://www.gpo.gov/fdsys/pkg/FR-2013-09-27/pdf/2013-23485.pdf (published 9/27/13). http://www.gpo.gov/fdsys/pkg/FR-2013-09-27/pdf/2013-23652.pdf (EPA FRN published 9/27/13).

Celia Boddington,
Assistant Director, Communications.

[FR Doc. 2013-26995 Filed 11-8-13; 8:45 am]

BILLING CODE 4310-84-P